DEPARTMENT OF ENERGY

Federal Energy Regulatory Commission

[Docket No. RP05-525-003]

Tennessee Gas Pipeline Company; Notice of Refund Report

December 20, 2005.

Take notice that on December 14, 2005, Tennessee Gas Pipeline Company (Tennessee) tendered for filing with the Commission its Statement of Refunds Report (Refund Report), which reflects refunds owed to shippers for Tennessee's collection of the GSR interruptible transportation surcharge.

Tennessee states that the Refund Report includes: (a) Schedule 1 reflecting the name of each shipper receiving a refund, the GSR revenue contributed by each applicable shipper, the principal amount owed to each applicable shipper, and the total interest on each principal refund amount; and (b) Schedule 2, which illustrates the calculation of interest.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible On-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on December 28, 2005.

Magalie R. Salas,
Secretary.

[FR Doc. E5-7928 Filed 12-27-05; 8:45 am]

BILLING CODE 6717-01-P